DEPARTMENT OF COMMERCE

National Telecommunications and Information Administration

Notice, Spectrum Management and Policy Summit

AGENCY: National Telecommunications and Information Administration, Department of Commerce.

ACTION: Notice of public meeting.

SUMMARY: The National Telecommunications and Information Administration (NTIA) will host a two-day Spectrum Summit, on April 4-5, 2002, that will be open to the public. The purpose of the spectrum management and policy summit is to explore new ideas to develop and implement spectrum policy and management approaches that will make more efficient use of the spectrum; provide spectrum for new technologies; and improve the effectiveness of domestic and international spectrum management processes.

DATES: The Spectrum Summit will be held from 8:30 a.m-5:30 p.m. on Thursday, April 4, 2002, and from 8:30 a.m.-4:15 p.m on Friday, April 5, 2002.

ADDRESSES: The April 4th meeting will be held in the auditorium of the U.S. Department of Commerce, 1401 Constitution Avenue, NW., Washington, DC. On Friday, April 5, 2002, meetings will take place at the Ronald Reagan International Trade Center, 1300 Pennsylvania Avenue, NW., Washington, DC, on the Concourse Level. Meetings on both days are open to the public. Seating is limited and is available on a first-come, first-served basis. For updated information and an agenda, please refer to NTIA's webpage at <http:www.ntia.doc.gov>. Directions to the Ronald Reagan International Trade Center and meeting room locations can also be accessed through the Trade Center's webpage at <http:www.itcdc.com>.

FOR FURTHER INFORMATION CONTACT: Derrick Owens, Office of Spectrum Management, NTIA, telephone (202) 482-1920, or electronic mail: <dowens@ntia.doc.gov>; or Joe Gattuso, Office of Policy Analysis and Development, NTIA, telephone: (202) 482-1880, or electronic mail <jgattuso@ntia.doc.gov>. Media inquiries should be directed to the Office of Public Affairs, NTIA, at (202) 482-7002.

SUPPLEMENTARY INFORMATION: NTIA serves as the principal adviser to the President on telecommunications policies as they pertain to the Nation's technological and economic advancement. NTIA is the primary Executive Branch agency responsible for developing and articulating domestic and international telecommunications policies. NTIA also manages use of the radio frequency spectrum by all federal agencies.

Radio spectrum is a key component for many government and private sector telecommunications and commercial services. Over the years, the demand for spectrum to be used for both governmental and commercial purposes has increased significantly. Key government organizations rely on radio spectrum to conduct national security, air traffic control, law enforcement, and other public safety efforts, among many other services. Spectrum use also supports the operations of the most competitive and technologically sophisticated industries in the United States. As such, effective spectrum policy and management is of great importance to the national economy. The increasing spectrum needs of the government and private sector has made the current spectrum management process more difficult, especially as the amount of available, unencumbered spectrum, becomes limited.

The Spectrum Summit, therefore, will focus on policies affecting the management of the Nation's airwaves, on new ideas and approaches to make more efficient use of spectrum, and on making the national and international spectrum processes more effective. NTIA will have the opportunity during the Spectrum Summit to initiate a dialogue with key industries and organizations that use spectrum, economists and analysts, technologists and futurists, and other interested parties. The four major areas of discussion throughout the two-day Spectrum Summit are: (1) Spectrum allocation and planning; (2) spectrum efficiency; (3) spectrum for new technologies; and (4) spectrum management regulatory processes.

Public Participation: These meetings will be open to the public and are physically accessible to people with disabilities. Any member of the public wishing to attend and requiring special services, such as sign language interpretation or other ancillary aid, should contact Derrick Owens or Joe Gattuso at least three (3) days prior to the meeting via the contact information provided above. All persons entering the Department of Commerce and the Ronald Reagan International Trade Center must go through the security screening. To facilitate entry into the Department of Commerce building, please have photo identification available and/or a U.S. Government building pass, if applicable.

Dated: March 5, 2002.
Kathy D. Smith,
Chief Counsel, National Telecommunications and Information Administration.

[FR Doc. 02-5556 Filed 3-7-02; 8:45 am]

BILLING CODE 3510-60-P